DEPARTMENT OF THE TREASURY

Office of Foreign Assets Control

31 CFR Part 545

Taliban (Afghanistan) Sanctions Regulations

AGENCY: Office of Foreign Assets Control, Treasury

ACTION: Final rule.

SUMMARY: The Department of the Treasury's Office of Foreign Assets Control (“OFAC”) is removing from the Code of Federal Regulations the Taliban (Afghanistan) Sanctions Regulations, 31 CFR part 545, as a result of the termination of the national emergency and revocation of the Executive order on which part 545 was based. Sanctions against the Taliban pursuant to Executive Order 13224 and the Global Terrorism Sanctions Regulations, 31 CFR part 594, remain in place.

DATES: Effective Date: June 1, 2011.

FOR FURTHER INFORMATION CONTACT: Assistant Director for Sanctions Compliance & Evaluation, tel.: 202/622-2490, Assistant Director for Licensing, tel.: 202/622-2480, Assistant Director for Policy, tel.: 202/622-4855, Office of Foreign Assets Control, or Chief Counsel (Foreign Assets Control), tel.: 202/622-2410, Office of the General Counsel, Department of the Treasury (not toll free numbers).

SUPPLEMENTARY INFORMATION:

Electronic and Facsimile Availability

This document and additional information concerning OFAC are available from OFAC's Web site (http://www.treasury.gov/ofac). Certain general information pertaining to OFAC's sanctions programs also is available via facsimile through a 24-hour fax-on-demand service, tel.: 202/622-0077.

Background

On July 4, 1999, the President issued Executive Order 13129 (64 FR 36759, July 7, 1999), invoking the authority of, inter alia, the International Emergency Economic Powers Act (50 U.S.C. 1701 et seq.) (“IEEPA”) and the National Emergencies Act (50 U.S.C. 1601 et seq.) (the “NEA”). In Executive Order 13129, the President determined that the actions and policies of the Taliban in Afghanistan, in allowing territory under its control in Afghanistan to be used as a safe haven and base of operations for Usama bin Ladin and Al-Qaida, constituted an unusual and extraordinary threat to the national security and foreign policy of the United States and declared a national emergency to deal with that threat. In response to this national emergency, the President, in Executive Order 13129, ordered the blocking of all property and interests in property of the Taliban and of persons determined to be owned or controlled by, or to act for or on behalf of, the Taliban, or to provide financial, material, or technological support for, or services in support of, any of the foregoing. In addition, Executive Order 13129 imposed a trade embargo against the Taliban, any persons designated pursuant to the order, and the territory of Afghanistan controlled by the Taliban. On January 11, 2001, the Department of the Treasury's Office of Foreign Assets Control (“OFAC”) issued the Taliban (Afghanistan) Sanctions Regulations, 31 CFR part 545, to implement Executive Order 13219 (66 FR 2726, January 11, 2001).

On September 23, 2001, the President issued Executive Order 13224 (66 FR 49079, September 25, 2001), invoking the authority of, inter alia, IEEPA, the NEA, and section 5 of the United Nations Participation Act of 1945, as amended (22 U.S.C. 287c). In Executive Order 13224, the President determined that grave acts of terrorism and threats of terrorism committed by foreign terrorists, including the terrorist attacks in New York, Pennsylvania, and the Pentagon committed on September 11, 2001, and the continuing and immediate threat of further attacks on United States nationals or the United States constitute an unusual and extraordinary threat to the national security, foreign policy, and economy of the United States and declared a national emergency to deal with that threat. Executive Order 13224 blocks the property and interests in property of foreign persons listed in the Annex to the order or determined to have committed or to pose a significant risk of committing acts of terrorism that threaten U.S. nationals or the United States, as well as of, inter alia, persons determined to be owned or controlled by, to act for or on behalf of, or to provide financial, material, or technological support for, or financial or other services to or in support of, such acts of terrorism or those persons listed in the Annex or determined to be subject to the order. On June 6, 2003, OFAC issued the Global Terrorism Sanctions Regulations, 31 CFR part 594 (68 FR 34196, June 6, 2003) (the “GTSR”), to carry out the purposes of Executive Order 13224.

On July 2, 2002, the President issued Executive Order 13268 (67 FR 44751, July 3, 2002), determining that the situation that gave rise to the declaration of a national emergency in Executive Order 13129 of July 4, 1999, with respect to the Taliban was significantly altered. As a result, the President terminated the national emergency declared in Executive Order 13129 with respect to the actions and policies of the Taliban in Afghanistan and revoked that order. In addition, Executive Order 13268 amended the Annex to Executive Order 13224 of September 23, 2001, by adding the Taliban and one individual who had previously been listed in the Annex to Executive Order 13129, Mohammed Omar, the leader of the Taliban. As a result, transactions involving the Taliban remain subject to the GTSR.

Accordingly, OFAC is removing the Taliban (Afghanistan) Sanctions Regulations, 31 CFR part 545, from 31 CFR chapter V. Pursuant to section 202 of the NEA and section 4 of Executive Order 13268, removal of this part does not affect ongoing enforcement proceedings or prevent the initiation of enforcement proceedings based on an act committed prior to the date of Executive Order 13268 where the relevant statute of limitations has not run.

Public Participation

Because the Taliban (Afghanistan) Sanctions Regulations involve a foreign affairs function, the provisions of Executive Order 12866 of September 30, 1993, as amended, and the Administrative Procedure Act (5 U.S.C. 553), requiring notice of proposed rulemaking, opportunity for public participation, and delay in effective date are inapplicable. Because no notice of proposed rulemaking is required for this rule, the Regulatory Flexibility Act (5 U.S.C. 601-612) does not apply.

List of Subjects in 31 CFR Part 545

Administrative practice and procedure, Afghanistan, Banks, Banking, Blocking of assets, Foreign investments in the United States, Foreign trade, Penalties, Reporting and recordkeeping requirements, Taliban, Travel restrictions.

For the reasons set forth in the preamble, and under the authority of 50 U.S.C. 1701-1706 and Executive Order 13268, 31 CFR chapter V is amended by removing part 545.

Dated: May 25, 2011.
Adam J. Szubin,
Director, Office of Foreign Assets Control.

[FR Doc. 2011-13581 Filed 5-31-11; 8:45 am]

BILLING CODE 4810-AL-P